DEPARTMENT OF ENERGY

Federal Energy Regulatory Commission

[Project No. 14851-003]

White Pine Waterpower, LLC; Notice of FERC Staff Attendance at Public Meeting

a. Project Name and Number: White Pine Pumped Storage Project No. 14581-003.

b. Applicant: White Pine Waterpower, LLC.

c. Date and Time of Meeting: Monday, August 18, 2025, from 8:00 a.m.-10:00 a.m. Pacific Daylight Time.

d. Place: Bristlecone Convention Center, 150 W 6th St, Ely, NV 89301.

e. FERC Contact: Ryan Hansen at 202-502-8074 or at ryan.hansen@ferc.gov.

d. Purpose of Meeting: The meeting will be a listening session hosted by U.S. Representative Mark Amodei, who has invited FERC Staff to attend and provide a status update on the licensing process for the proposed White Pine Pumped Storage Project.

Dated: August 7, 2025.
Debbie-Anne A. Reese,
Secretary.

[FR Doc. 2025-15277 Filed 8-11-25; 8:45 am]

BILLING CODE 6717-01-P